DEPARTMENT OF ENERGY

Federal Energy Regulatory Commission

[Docket No. RP02-16-000]

Pan-Alberta Gas (U.S.) Inc.; Mirant Americas Energy Marketing, L.P.; Complainants, v. Northern Border Pipeline Company; Respondent; Notice of Complaint

October 10, 2002.

Take notice that on October 8, 2002, pursuant to Rule 206 of the Rules of Practice and Procedure of the Federal Energy Regulatory Commission (Commission), 18 CFR 385.206, Pan-Alberta Gas (U.S.) Inc. (PAGUS) (by its agent Mirant Canada Energy Marketing, Ltd.) and Mirant Americas Energy Marketing, L.P. (MAEM) tendered for filing a Complaint against Northern Border Pipeline Company (Northern Border). PAGUS and MAEM request that the complaint be processed by the Commission on a fast track basis.

PAGUS and MAEM allege that Section 26.2(b) of the General Terms and Conditions of Northern Border's tariff conflicts with long-standing Commission policies because it permits the pipeline in some circumstances to contract its capacity on a long term basis at discounted rates without posting the capacity for bid. They further allege that Section 26.2(b) subverts and undermines the Right of First Refusal (“ROFR”) process on the Northern Border system. PAGUS and MAEM request that the Commission invalidate Section 26.2(b).

PAGUS and MAEM also request that the Commission clarify the rights of shippers whose capacity goes through the ROFR bidding process, but is not awarded to any party during that process because no bids acceptable to the pipeline were submitted. PAGUS and MAEM request the Commission to confirm that in that situation, the ROFR matching rights of the existing capacity holders will continue in effect for the remainder of their contract terms.

Finally, PAGUS and MAEM request that the Commission grant preliminary relief in the form of an order prohibiting Northern Border from continuing the ROFR process with respect to PAGUS' capacity until after this Complaint is resolved.

Any person desiring to be heard or to protest this filing should file with the Federal Energy Regulatory Commission, 888 First Street, NE, Washington, DC 20426, in accordance with rules 211 and 214 of the Commission's rules of practice and procedure (18 CFR 385.211 and 385.214). Protests will be considered by the Commission in determining the appropriate action to be taken, but will not serve to make protestants parties to the proceeding. Any person wishing to become a party must file a motion to intervene. The answer to the complaint and all comments, interventions or protests must be filed on or before October 18, 2002. This filing is available for review at the Commission in the Public Reference Room or may be viewed on the Commission's Web site at http://www.ferc.gov using the “FERRIS” link. Enter the docket number excluding the last three digits in the docket number field to access the document. For Assistance, call (202) 502-8222 or for TTY, (202) 502-8659. The answer to the complaint, comments, protests and interventions may be filed electronically via the Internet in lieu of paper; see 18 CFR 385.2001(a)(1)(iii) and the instructions on the Commission's Web site under the “e-Filing” link. The Commission strongly encourages electronic filings.

Linwood A. Watson, Jr.,
Deputy Secretary.

[FR Doc. 02-26389 Filed 10-16-02; 8:45 am]

BILLING CODE 6717-01-P